DEPARTMENT OF ENERGY

Federal Energy Regulatory Commission

[Docket No. RP99-363-002

Equitrans, L.P.; Notice of Request for Limited Waiver

February 25, 2000.

Take notice that on February 3, 2000, Equitrans, L.P. (Equitrans) tendered for filing a request for a one-year waiver, until March 1, 2001, to comply with the following GISB Standards (Version 1.3): Nomination Standards 1.4.1 through 1.4.7, Flowing Gas Standards 2.4.1 through 2.4.6, Invoicing Standards 3.4.1 through 3.4.4, EDM Standards 4.3.1 through 4.3.3, and to the extent applicable to EDI transactions, 4.3.9 through 4.3.15, Capacity Release Standards 5,4,1 through 5.4.17.

Equitrans states upon granting of the request, it will submit revised General Terms and Conditions to remove any reference to information being submitted or obtained via EDI transmission.

Equitrans states that in June 1999 it contracted with Altra Energy Technologies, Inc. (Altra) to install and help implement a new gas transportation management system. Unforseen problems in the implementation of the new system and problems with the maintenance of the current system necessitates this filing. The new Altra system is expected to be operational by December 31, 2000.

Any person desiring to protest said filing should file a protest with the Federal Energy Regulatory Commission, 888 First Street, NE, Washington, DC 20426, in accordance with Section 385.211 of the Commission's Rules and Regulations. All such protests must be filed on or before March 3, 2000. Protests will be considered by the Commission in determining the appropriate action to be taken, but will not serve to make protestants parties to the proceedings. Copies of this filing are on file with the Commission and are available for public inspection in the Public Reference Room. This filing may be viewed on the web at http://www.ferc.fed.us/online/rims/htm (call 202-208-222 for assistance).

David P. Boergers,
Secretary.

[FR Doc. 00-4994 Filed 3-1-00; 8:45 am]

BILLING CODE 6717-01-M